DEPARTMENT OF ENERGY

Federal Energy Regulatory Commission

[Project No. 13831-000]

Vortex Hydro Energy, LLC; Notice of Competing Preliminary Permit Application Accepted for Filing and Soliciting Comments and Interventions

October 15, 2010.

On August 9, 2010, Vortex Hydro Energy, LLC filed an application for a preliminary permit, pursuant to section 4(f) of the Federal Power Act, proposing to study the feasibility of the St. Clair Hydrokinetic Project, located on the St. Clair River, in St. Clair County, Michigan. The sole purpose of a preliminary permit, if issued, is to grant the permit holder priority to file a license application during the permit term. A preliminary permit does not authorize the permit holder to perform any land disturbing activities or otherwise enter upon lands or waters owned by others without the owners' express permission.

The proposed project would consist of: (1) Two medium scale VIVACE converters with each unit consisting of approximately nine cylinders that is gravity held at the bottom of the river bed; (2) an underwater inverter that would convert the electric signal to 3 Phase 480 Volts; and (3) a proposed underwater cable that would transmit to the nearby Dunn Paper Plant. The proposed St. Clair Hydrokinetic Project would have an estimated average annual generation of 0.788 gigawatt-hours.

Applicant Contact: Gus Simiao, CEO, Vortex Hydro Energy, LLC, 2512 Carpenter Road, Suite 201-A1, Ann Arbor, MI 48108; phone: (734) 971-4020.

FERC Contact: Bryan Roden-Reynolds at (202) 502-6618, or via e-mail at bryan.roden-reynolds@ferc.gov.

Competing Applications: This application competes with Project No. 13694-000 filed March 30, 2010.

Deadline for filing comments and motions to intervene: 60 days from the issuance of this notice. Comments and motions to intervene may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport@ferc.gov; call toll free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-13617) in the docket number field to access the document. For assistance, contact FERC Online Support.

Kimberly D. Bose,
Secretary.

[FR Doc. 2010-26690 Filed 10-21-10; 8:45 am]

BILLING CODE 6717-01-P